DEPARTMENT OF TRANSPORTATION

Federal Aviation Administration

Public Notice for a Change in Use of Aeronautical Property at Owensboro-Daviess County Regional Airport, Owensboro, KY

AGENCY: Federal Aviation Administration (FAA), DOT.

ACTION: Request for public comment.

SUMMARY: Under the provisions of Title 49, U.S.C. 47153(c), the Federal Aviation Administration is requesting public comment on the Owensboro-Daviess County Regional Airport Board's request to change a portion (2.362 acres) of airport property from aeronautical use to non-aeronautical use. The property is to be sold to The City of Owensboro, Kentucky for the completion of a connector walkway to David C. Adkisson Greenbelt Park.

The 2.362 acres is located on the northeast boundary of Owensboro-Daviess County Regional Airport; adjacent to and immediately west of the Wendell Ford Expressway, adjacent to and immediately south of Bittel Road, Daviess County, Kentucky.

DATES: Comments must be received on or before January 3, 2006.

ADDRESSES: Comments on this notice may be mailed or delivered in triplicate to the FAA at the following address: Memphis Airports District Office, 2862 Business Park Drive, Building G, Memphis, TN 38118-1555.

In addition, one copy of any comments submitted to the FAA must be mailed or delivered to Mr. Tim Bradshaw, Manager, Owensboro-Daviess County Airport at the following address: 2200 Airport Road, Owensboro, Kentucky 42301.

FOR FURTHER INFORMATION CONTACT: Tommy L. Dupree, Airports Program Manager, Memphis Airports District Office, 2862 Business Park Drive, Building G, Memphis, TN 38118-1555, (901) 322-8185. The application may be reviewed in person at this same location.

SUPPLEMENTARY INFORMATION: The FAA is reviewing a request by the Owensboro-Daviess County Regional Airport Board to release 2.362 acres of aeronautical property at Owensboro-Daviess County Regional Airport, Owensboro, Kentucky. The property will be released to The City of Owensboro, Kentucky for the completion of a connector walkway to David C. Adkisson Greenbelt Park. The City of Owensboro, Kentucky provides annual appropriations for the operation and maintenance of Owensboro-Daviess County Airport, and over the past six (6) years has done so in the amount of $403,792. The appraised value of the 2.362 acres is approximately $62,400. Therefore, release of the property to the City of Owensboro will be zero. A detailed legal description of the property proposed for release can be requested or seen at either of the contacts given above. However, the general description is the 2.362 acres is located on the northeast boundary of Owensboro-Daviess County Regional Airport; adjacent to and immediately west of the Wendell Ford Expressway, adjacent to and immediately south of Bittel Road, Daviess County, Kentucky.

Any person may inspect the request in person at the FAA office listed above under FOR FURTHER INFORMATION CONTACT. In addition, any person may, upon request, inspect the request, notice and other documents germane to the request in person at the Elizabethtown Airport Board.

Issued in Memphis, Tennessee, on November 23, 2005.
Charles L. Harris,
Acting Manager, Memphis Airports District Office, Southern Region.

[FR Doc. 05-23525 Filed 11-30-05; 8:45 am]

BILLING CODE 4910-13-M